FEDERAL COMMUNICATIONS COMMISSION

En Banc Hearing on Broadband and the Digital Future

AGENCY: Federal Communications Commission.

ACTION: Notice.

SUMMARY: The Federal Communications Commission will hold a public en banc hearing on Broadband and the Digital Future on Monday, July 21, 2008 at the Carnegie Mellon University in Pittsburgh, Pennsylvania.

DATES: Monday, July 21 at 4 p.m.

ADDRESSES: Carnegie Mellon University, 5000 Forbes Avenue, Pittsburgh, Pennsylvania 15213.

FOR FURTHER INFORMATION CONTACT: Robert Kenny: 202-418-2668 or Clyde Ensslin: 202-418-0506.

SUPPLEMENTARY INFORMATION: The Commission will hear from expert panelists regarding broadband and the digital future. The hearing is open to the public, and seating will be available on a first-come, first-served basis. Sign language interpreters and open captioning will be provided for this event. Other reasonable accommodations for people with disabilities are available upon request. Include a description of the accommodation needed, and include a way we can contact you if we need more information. Please make your request as early as possible. Last minute requests will be accepted, but may be impossible to fill.

Send an e-mail to fcc504@fcc.gov or call the Consumer & Governmental Affairs Bureau at 202-418-0530 (voice), 202-418-0432 (TTY). For additional information about the hearing, please visit the FCC's Web site at http://www.fcc.gov.

Federal Communications Commission.
Marlene H. Dortch,
Secretary.

[FR Doc. E8-16611 Filed 7-17-08; 8:45 am]

BILLING CODE 6712-01-P